DEPARTMENT OF HOMELAND SECURITY

Coast Guard

33 CFR Part 117

[CGD08-03-043]

RIN 1625-AA09

Drawbridge Operating Regulation; St. Croix River, Hudson, WI

AGENCY: Coast Guard, DHS.

ACTION: Notice of temporary deviation from regulations.

SUMMARY: The Commander, Eighth Coast Guard District has issued a temporary deviation from the regulation governing the operation of the Hudson Railroad Drawbridge, across the St. Croix River, mile 17.3 at Hudson, Wisconsin. This deviation allows the drawbridge to remain closed to navigation for six intervals starting at 8 a.m., November 3, 2003, and ending at 8 a.m., December 11, 2003, Central Standard Time. The deviation is necessary to facilitate maintenance work on the bridge that is essential to the continued safe operation of the drawbridge.

DATES: This temporary deviation is effective from 8 a.m., November 3, 2003, until 8 a.m., December 11, 2003.

ADDRESSES: Materials referred to in this notice are available for inspection or copying at the office of the Eighth Coast Guard District, Bridge Administration Branch, Commander (obr), Eighth Coast Guard District, 1222 Spruce Street, St. Louis, MO 63103-2832, between 8 a.m. and 4 p.m., Monday through Friday, except Federal holidays. The Bridge Administration Branch maintains the public docket for this temporary deviation.

FOR FURTHER INFORMATION CONTACT: Roger K. Wiebusch, Bridge Administrator, Commander (obr), Eighth Coast Guard District, 1222 Spruce Street, St. Louis, MO 63103-2832, (314) 539-3900, extension 2378.

SUPPLEMENTARY INFORMATION: The Union Pacific Railroad Company requested a temporary deviation on September 25, 2003 for the operation of the drawbridge to allow the bridge owner time for preventative maintenance. Presently, the draw opens on signal for passage of river traffic; except that from December 15 through March 31, the draw opens on signal if at least 24 hours notice is given. This deviation allows the bridge to remain closed to navigation for six intervals from 8 a.m. until 4 p.m. daily on November 3-7, 2003; from 8 a.m. until 4 p.m. daily on November 10-14, 2003; from 8 a.m. until 4 p.m. daily on November 17-21, 2003; from 8 a.m. until 4 p.m. daily on November 24-28, 2003; from 8 a.m., December 1 until 8 a.m. December 4, 2003; and from 8 a.m., December 8 until 8 a.m. December 11, 2003. Vessels not exceeding the vertical clearance of the drawbridge may pass under the drawbridge during repairs. There are no alternate routes for vessels transiting through mile 17.3, St. Croix River. The drawbridge will open for emergencies during the repair periods with a two-hour advance notice.

The Hudson Railroad Drawbridge provides a vertical clearance of 17.1 feet above normal pool in the closed to navigation position. Navigation on the waterway consists primarily of recreational watercraft. In order to repair structural steel components and replace the Conley Joints the bridge must be kept inoperative and in the closed to navigation position. This deviation has been coordinated with waterway users. No objections were received.

In accordance with 33 CFR 117.35(c), this work will be performed with all due speed in order to return the bridge to normal operation as soon as possible. This deviation from the operating regulations is authorized under 33 CFR 117.35.

Dated: October 29, 2003.
Roger K. Wiebusch,
Bridge Administrator.

[FR Doc. 03-27860 Filed 11-4-03; 8:45 am]

BILLING CODE 4910-15-P